Proclamation 9437 of April 29, 2016

National Charter Schools Week, 2016

By the President of the United States of America

A Proclamation

Our Nation has always been guided by the belief that all young people should be free to dream as big and boldly as they want, and that with hard work and determination, they can turn their dreams into realities. Schools help us uphold this ideal by offering a place for children to grow, learn, and thrive. During National Charter Schools Week, we celebrate the role of high-quality public charter schools in helping to ensure students are prepared and able to seize their piece of the American dream, and we honor the dedicated professionals across America who make this calling their life's work by serving in charter schools.

Charter schools play an important role in our country's education system. Supporting some of our Nation's underserved communities, they can ignite imagination and nourish the minds of America's young people while finding new ways of educating them and equipping them with the knowledge they need to succeed. With the flexibility to develop new methods for educating our youth, and to develop remedies that could help underperforming schools, these innovative and autonomous public schools often offer lessons that can be applied in other institutions of learning across our country, including in traditional public schools. We also must ensure our charter schools, like all our schools, are of high quality and are held accountable—when a charter school does not meet high standards, we need to act in the best interest of its students to help it improve, and if that does not prove possible, to close its doors.

Charter schools have been at the forefront of innovation and have found different ways of engaging students in their high school years—including by providing personalized instruction, leveraging technology, and giving students greater access to rigorous coursework and college-level courses. Over the past 7 years, my Administration's commitment of resources to the growth of charter schools has enabled a significant expansion of educational opportunity, enabling tens of thousands of children to attend high-quality public charter schools. I am committed to ensuring all of our Nation's students have the tools and skills they need to get ahead, and that begins with ensuring they are able to attend an effective school and obtain an excellent education.

Educating every American student and ensuring they graduate from high school prepared for college and beyond is a national priority. This week, we honor the educators working in public charter schools across our Nation who, each day, give of themselves to provide children a fair shot at the American dream, and we recommit to the basic promise that all our daughters and sons—regardless of background or circumstance—should be able to make of their lives what they will.

NOW, THEREFORE, I, BARACK OBAMA, President of the United States of America, by virtue of the authority vested in me by the Constitution and the laws of the United States, do hereby proclaim May 1 through May 7, 2016, as National Charter Schools Week. I commend our Nation's charter schools, teachers, and administrators, and I call on States and communities to support high-quality public schools, including charter schools, and the students they serve.

IN WITNESS WHEREOF, I have hereunto set my hand this twenty-ninth day of April, in the year of our Lord two thousand sixteen, and of the Independence of the United States of America the two hundred and fortieth.

[FR Doc. 2016-10653

Filed 5-3-16; 11:15 am]

Billing code 3295-F6-P